DEPARTMENT OF ENERGY

Federal Energy Regulatory Commission

Combined Notice of Filings #1

Take notice that the Commission received the following electric corporate filings:

Docket Numbers: EC16-179-000.

Applicants: Solverde 1, LLC.

Description: Application for Authorization under Section 203 of the Federal Power Act, Request for Expedited Consideration and Confidential Treatment of Solverde 1, LLC.

Filed Date: 9/9/16.

Accession Number: 20160909-5415.

Comments Due: 5 p.m. ET 9/30/16.

Docket Numbers: EC16-180-000.

Applicants: Antelope DSR 1, LLC.

Description: Application for Authorization under Section 203 of the Federal Power Act, Request for Expedited Consideration and Confidential Treatment of Antelope DSR 1, LLC.

Filed Date: 9/9/16.

Accession Number: 20160909-5417.

Comments Due: 5 p.m. ET 9/30/16.

Take notice that the Commission received the following electric rate filings:

Docket Numbers: ER10-1651-003.

Applicants: Golden State Water Company.

Description: Supplement to June 28 2016 Updated Market Power Analysis of Golden State Water Company.

Filed Date: 9/9/16.

Accession Number: 20160909-5411.

Comments Due: 5 p.m. ET 11/8/16.

Docket Numbers: ER16-2044-000.

Applicants: Elk Hills Power, LLC.

Description: Supplement to June 28 2016 Updated Market Power Analysis for the Southwest Region of Elk Hills Power, LLC.

Filed Date: 9/9/16.

Accession Number: 20160909-5421.

Comments Due: 5 p.m. ET 11/8/16.

Docket Numbers: ER16-2577-000.

Applicants: Lindahl Wind Project, LLC.

Description: Baseline eTariff Filing: MBR Tariff to be effective 11/10/2016.

Filed Date: 9/12/16.

Accession Number: 20160912-5708.

Comments Due: 5 p.m. ET 10/3/16.

Docket Numbers: ER16-2578-000.

Applicants: North Lancaster Ranch LLC.

Description: Baseline eTariff Filing: North Lancaster Ranch LLC MBR Tariff to be effective 9/13/2016.

Filed Date: 9/12/16.

Accession Number: 20160912-5716.

Comments Due: 5 p.m. ET 10/3/16.

Docket Numbers: ER16-2579-000.

Applicants: American Electric Power Service Corporation, PJM Interconnection, L.L.C.

Description: Section 205(d) Rate Filing: AEP Submits 48th Revised Service Agreement No 1336 with Buckeye Power to be effective 8/11/2016.

Filed Date: 9/12/16.

Accession Number: 20160912-5848.

Comments Due: 5 p.m. ET 10/3/16.

Docket Numbers: ER16-2580-000.

Applicants: Midcontinent Independent System Operator, Inc.

Description: Section 205(d) Rate Filing: 2016-09-12_Bi-Directional EARS Exemption Filing to be effective 11/12/2016.

Filed Date: 9/12/16.

Accession Number: 20160912-5876.

Comments Due: 5 p.m. ET 10/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2016.
Nathaniel J. Davis, Sr.,
Deputy Secretary.

[FR Doc. 2016-22639 Filed 9-20-16; 8:45 am]

BILLING CODE 6717-01-P